ENVIRONMENTAL PROTECTION AGENCY

40 CFR Part 52

[Region II Docket No. NJ 63-263, FRL-7596-7]

Approval and Promulgation of Implementation Plans; New Jersey Emission Statement Program

AGENCY: Environmental Protection Agency.

ACTION: Proposed rule.

SUMMARY: The Environmental Protection Agency (EPA) is proposing to approve the State Implementation Plan (SIP) revision submitted by the State of New Jersey on January 23, 2003 for the purpose of enhancing an existing Emission Statement Program for stationary sources in New Jersey. The SIP revision consists of amendments to the New Jersey Administrative Code (N.J.A.C.) Title 27, Chapter 27, Subchapter 21 Emission Statements.

The SIP revision was submitted by New Jersey to satisfy the Clean Air Act requirements for stationary sources to report annually to the State on their emissions of volatile organic compounds (VOC), oxides of nitrogen (NOX) and carbon monoxide (CO), in order for the State to make this data available to EPA and the public.

The rule enhances the reporting requirements of VOC and NOX and expands the reporting requirement based on specified emission thresholds to include CO, sulfur dioxides (SO2), total suspended particulate matter (TSP), particulate matter measuring 2.5 microns or less (PM2.5), particulate matter measuring 10 microns or less (PM10), ammonia (NH3), lead (Pb), hazardous air pollutants (HAPS), and carbon dioxide (CO2) and methane (CH4). The intended effect is to provide improved information to plan for and attain the air quality standards.

DATES: Comments must be received on or before January 8, 2004.

ADDRESSES: Comments may be submitted either by mail or electronically. Written comments should be mailed to Raymond Werner, Chief, Air Programs Branch, Environmental Protection Agency, Region 2 Office, 290 Broadway, New York, New York 10007-1866. Electronic comments could be sent either to Werner.Raymond@epa.gov or to http://www.regulations.gov, which is an alternative method for submitting electronic comments to EPA. Go directly to http://www.regulations.gov, then select “Environmental Protection Agency” at the top of the page and use the “go” button. Please follow the on-line instructions for submitting comments.

Copies of the state submittal(s) are available at the following addresses for inspection during normal business hours:

New Jersey Department of Environmental Protection and Energy, Office of Air Quality Management, Bureau of Air Quality Planning, 401 East State Street, CN418, Trenton, New Jersey 08625.

Environmental Protection Agency, Region II Office, 290 Broadway, New York, New York 10007-1866.

FOR FURTHER INFORMATION CONTACT: Raymond K. Forde, Air Programs Branch, Environmental Protection Agency, 290 Broadway, 25th Floor, New York, New York 10007-1866, (212) 637-3716, forde.raymond@epa.gov.

SUPPLEMENTARY INFORMATION:

I. What Is Required by the Clean Air Act and How Does It Apply to New Jersey?

Emission Statements (Annual Reporting of VOC and NOX)

The air quality planning and SIP requirements for ozone nonattainment and transport areas are established in subparts I and II of part D of title I of the Clean Air Act, as amended in 1990 (the Act). EPA has published a “General Preamble” and “Appendices to the General Preamble” (see 57 FR 13498 (April 16, 1992), and 57 FR 18070 (April 28, 1992)) describing how EPA intends to review SIPs submitted under Title I of the Act.

EPA has also issued a draft guidance document entitled, “Guidance on the Implementation of an Emission Statement Program” (July 1992), describing the requirements for the Emission Statement Program discussed in this rulemaking.

Section 182(a) of the Act establishes requirements for stationary sources of air pollution to prepare and submit to the state statements each year showing actual emissions of VOCs and NOX. Further, states with ozone nonattainment areas are required to submit a revision to their SIPs by November 15, 1992, establishing this Emission Statement Program.

Facilities are required to submit their first emission statement to a state within three years of promulgation of the Act and annually thereafter. If either VOC or NOX is emitted at or above the minimum reporting level that is established in a state Emission Statement Program, the other pollutant (NOX or VOC) from the same facility should be included in the emission statement, even if the pollutant is emitted at levels below the minimum reporting level.

Section 182(a)(3)(B)(ii) of the Act allows states to waive, with EPA approval, the requirement for an emission statement for classes or categories of sources with less than 25 tons per year of actual plant-wide NOX and VOC emissions in nonattainment areas if the class or category is included in the base year and periodic inventories and emissions are calculated using emission factors established by EPA (such as those found in EPA publication AP-42) or other methods acceptable to EPA.

Consolidated Emission Reporting Rule (Annual Reporting for All Criteria Pollutants)

In order to consolidate reporting requirements by the states to EPA, on June 10, 2002 (see FR 39602), EPA published the final Consolidated Emissions Reporting rule (CERR). The purpose of the CERR is to simplify the states' annual reporting of criteria pollutants for which the National Ambient Air Quality Standards (NAAQS) have been established and their precursors (VOC, NOX, SO2, PM10, PM2.5, CO, NH3, Pb) to EPA, offer options for data collection and exchange, and unify reporting dates for various categories of criteria pollutant emission inventories. The CERR requires states to report to EPA emissions of NOX, CO, VOC, Pb, SO2, PM10, annually for industrial point sources (based on specific emission thresholds) based on calendar year (CY) 2001 and due June 1, 2003 and continuing every year thereafter (i.e., CY 2002 emission inventory due June 1, 2004, CY 2003 emission inventory due June 1, 2005, * * * etc.). One important element of the CERR is a requirement that states collect PM2.5 and ammonia (NH3) emissions data from industrial facilities. Reporting of PM2.5 and NH3 from point sources becomes effective June 2004, for emissions that occurred during calendar year 2002.

New Jersey's Emission Statement rule, which requires facilities to report information for the criteria pollutants and the associated precursors mentioned above, will now enable the State to satisfy the federal CERR requirements for major sources.

Hazardous Air Pollutants (Periodic Reporting of Hazardous Air Pollutants)

In addition to the emission inventory provisions related to NAAQS pollutants, EPA has requested that the states report HAP emissions from anthropogenic sources for the National Toxics Inventory. The National Toxics Inventory (NTI) is an emission inventory developed every three years (1993, 1996, 1999, etc.) by EPA. The NTI is a complete national inventory of stationary and mobile sources that emit hazardous air pollutants (HAPs).

The NTI contains emission estimates for large stationary sources (point), small stationary sources (non-point), and mobile sources. Point sources in the NTI include major and area source categories as defined in section 112 of the Clean Air Act. Non-point source categories in the NTI include area sources that are not included in the point sources and other stationary source categories. Individual emission estimates are developed for point sources, while aggregate emission estimates at the county level are developed and recorded for non-point stationary and mobile sources. The NTI also identifies facilities and non-point source categories that are associated with MACT categories.

Need for NTI Inventory

Title V of the Act requires the Administrator to perform an oversight role with respect to state issued permits, including permits issued to major sources of HAP emissions. In order to determine whether that program is being appropriately and lawfully administrated by the states with respect to major HAP sources, a HAP emission inventory is necessary. States are developing programs to regulate HAPs and State Title V programs must include permits for all HAP sources emitting major quantities of HAPs (10 tons of one HAP or 25 tons of multiple HAPs per year). Thus, the EPA believes including HAPs in the point source inventory is appropriate and necessary.

Section 112(n)(1)(A) of the Act requires EPA to report to Congress on the hazards to public health reasonably anticipated to occur as a result of emissions from electric utility steam generating units. Section 112(n)(1)(B) requires EPA to provide a report to Congress that considers the rate and mass of HAP emissions and the health and environmental effects of these emissions. Section 112(c)(6) requires a list of categories and subcategories of HAP sources subject to standards that account for not less than 90 percent of the aggregate emission of each pollutant. Although these new requirements do not include specific provisions requiring the compilation of HAP emissions inventories, they do introduce the need for such inventories in order to carry out the mandated statutes.

Section 112(k)(3) of the Act mandates that EPA develop a strategy to control emissions of HAPs from area sources in urban areas, and that the strategy achieves a reduction in the incidence of cancer attributable to exposure to HAPs emitted by stationary sources of not less than 75 percent, considering control of emissions from all stationary sources, as well as a substantial reduction in public health risks posed by HAPs from area sources. These mandated risk reductions are to be achieved by taking into account all emission control measures implemented by the Administrator or by the states under this or any other laws. A reliable HAP emission inventory covering all stationary sources of HAPs, including point and area sources, will be important in developing the mandated strategy and demonstrating that the strategy achieves the mandated risk reductions. It would be virtually impossible for EPA to identify and estimate HAP-specific emission reductions from all the federal and State rules that might result in HAP emission reductions. Therefore, EPA believes development of the strategy and assessment of progress in achieving the strategic goals requires the development and periodic update of a HAP emission inventory.

As presented in the July 19, 1999 Federal Register action on the National Air Toxics Program: The Integrated Urban Strategy (64 FR 38706), a designed approach has been developed that depends upon a reliable and periodically updated HAP emission inventory as a critical element in the assessments that support the development and evaluation of our urban strategy.

New Jersey's Emission Statement rule, which requires facilities to report information for the hazardous air pollutants, will now help the State to satisfy the HAPs reporting requirements for major sources.

II. What Was Included in New Jersey's Submittal?

New Jersey's Submittal

On January 23, 2003, New Jersey submitted a SIP revision for ozone and CO which included an adopted Emission Statement Regulation. The regulation amends New Jersey Administrative Code Title 7, Chapter 27, Subchapter 21 Emission Statements and Subchapter 22 Operating Permits, and Title 7, Chapter 27A, Subchapter 3 Civil Administrative Penalties and Requests for Adjudicatory Hearings. The amendments were adopted on January 23, 2003, by the New Jersey Department of Environmental Protection (NJDEP) and became effective on February 18, 2003.

EPA's Findings

EPA has determined that an acceptable Emission Statement Program must have several components. Specifically, a state must submit it as a revision to its SIP, and the Emission Statement Program must meet the minimum requirements for reporting as outlined in EPA's, “Guidance on the Implementation of an Emission Statement Program” (July 1992). The program must include, at a minimum, provisions specifying source applicability, definitions, compliance, and specific source reporting requirements.

EPA's detailed review of New Jersey's Emission Statement Program is contained in a technical support document available from the source for further information identified at the beginning of this proposal.

Applicability

In ozone nonattainment areas, facilities which emit VOC or NOX in amounts of 25 tons per year or more must submit an emission statement. The entire State of New Jersey is designated nonattainment of the NAAQS for ozone. New Jersey's regulation appropriately requires facilities anywhere in the State actually emitting or having the potential to emit 10 tons per year or more of VOC or 25 tons per year or more of NOX to submit an annual emission statement.

New Jersey's regulation requires sources which have the potential to emit 100 tons per year or more of CO, SO2, TSP, PM2.5, PM10, NH3 or 5 tons per year or more of Pb to submit annual emission statements.

New Jersey's rule has special provisions which require sources which have the potential to emit VOC greater than 10 tons per year but less than 25 tons per year of VOC, or less than the applicable reporting thresholds for the other criteria pollutants mentioned earlier to report annual emission statements for VOC, NOX, CO and 36 HAPs.

New Jersey's regulations include special provisions that require sources which have the potential to emit 25 tons per year or more of VOC, or, the potential to emit equal to or higher than the specific emission thresholds for the other criteria pollutants mentioned earlier to submit annual emission statements for VOC, NOX, CO, SO2, TSP, Pb, PM10, PM2.5, NH3, CO2 and CH4 and 36 HAPs.

EPA has determined that New Jersey has addressed the emission statement applicability provisions in a manner that is acceptable to EPA. In addition, New Jersey's emission statement rule will assist the State in satisfying the annual reporting requirements for the federal CERR, help the State to develop a HAPS emission inventory for use in National Air Toxics Assessment.

Definitions

The key definitions that New Jersey included in its Emission Statement Regulation are consistent with the EPA guidance.

Compliance

All measures and other elements in the SIP must be enforceable by the State and EPA. SIP provisions must also contain a program that provides for enforcement of the control measures and other elements in the SIP (see section 110(a)(2)(C)).

The State of New Jersey has a program in its SIP that will ensure that the requirements of section 182(a)(3)(B) are adequately enforced. In addition, New Jersey has established penalties to be assessed for each reporting violation.

New Jersey's statute and regulations includes the authority to issue compliance orders with appropriate penalties and injunctive relief for sources failing to comply. EPA has determined that New Jersey has an adequate enforcement program in place to satisfy the compliance requirements of an Emission Statement Program.

Reporting Requirements

In accordance with EPA requirements, New Jersey requires the necessary source-supplied data elements from facilities. The survey forms that New Jersey provides to facilities for use in reporting emission statement data are not EPA forms but require the necessary data.

The State's Emission Statement program requires facilities to report on the following pollutants to assist the State in air quality planning needs: hydrochloric acid, hydrazine, methylene chloride, tetrachloroethylene, 1,1,1 trichloroethane, CO2 and methane. While EPA recognizes the value of this information, EPA will not take enforcement action should a facility not submit this information to the State in an emission statement because these substances do not contribute to violation of the NAAQS.

It should be noted the State's SIP revision request also contains Subchapter 22 Operating Permits and Title 7, Chapter 27A, Subchapter 3 Civil Administrative Penalties and Requests for Adjudicatory Hearings. In this action EPA is officially acting on NJAC Title 7, Chapter 27, Subchapter 21 Emission Statements. However, EPA will not be acting on NJAC Title 7, Subchapter 22 Operating Permits and Title 7, Chapter 27A, Subchapter 3 Civil Administrative Penalties and Requests for Adjudicatory Hearings and will not be incorporating these amendments by reference into the SIP. Title 7, Subchapter 22 involves a separate program under EPA's Title V program. Title 7, Chapter 27A, Subchapter 3 involves enforcement and civil penalties, EPA has its own enforcement provisions separate from the State program.

III. General Information

A. How Can I Get Copies of This Document and Other Related Information?

1. The Regional Office has established an official public rulemaking file available for inspection at the Regional Office. EPA has established an official public rulemaking file for this action under Region 2 Docket Number NJ 63-263. The official public file consists of the documents specifically referenced in this action, any public comments received, and other information related to this action. Although a part of the official docket, the public rulemaking file does not include Confidential Business Information (CBI) or other information whose disclosure is restricted by statute. The official public rulemaking file is the collection of materials that is available for public viewing at the Environmental Protection Agency, Region II Office, Air Programs Branch, 290 Broadway, New York, New York 10007-1866. EPA requests that if at all possible, you contact the contact listed in the For Further Information Contact section to schedule your inspection. The Regional Office's official hours of business are Monday through Friday, 8:30 to 4:30 excluding Federal Holidays.

2. Copies of the State submittal and EPA's technical support document are also available for public inspection during normal business hours, by appointment at the State Air Agency.

New Jersey Department of Environmental Protection and Energy, Office of Air Quality Management, Bureau of Air Quality Planning, 401 East State Street, CN418, Trenton, New Jersey 08625.

3. Electronic Access. You may access this Federal Register document electronically through the Regulations.gov Web site located at http://www.regulations.gov where you can find, review, and submit comments on Federal rules that have been published in the Federal Register, the Government's legal newspaper, and are open for comment.

For public commenters, it is important to note that EPA's policy is that public comments, whether submitted electronically or in paper, will be made available for public viewing at the EPA Regional Office, as EPA receives them and without change, unless the comment contains copyrighted material, CBI, or other information whose disclosure is restricted by statute. When EPA identifies a comment containing copyrighted material, EPA will provide a reference to that material in the version of the comment that is placed in the official public rulemaking file. The entire printed comment, including the copyrighted material, will be available at the Regional Office for public inspection.

B. How and to Whom Do I Submit Comments?

You may submit comments electronically, by mail, or through hand delivery/courier. To ensure proper receipt by EPA, identify the appropriate rulemaking identification number by including the text “Public comment on proposed rulemaking Region 2 Docket Number NJ 63-263” in the subject line on the first page of your comment. Please ensure that your comments are submitted within the specified comment period. Comments received after the close of the comment period will be marked “late.” EPA is not required to consider these late comments.

1. Electronically. If you submit an electronic comment as prescribed below, EPA recommends that you include your name, mailing address, and an e-mail address or other contact information in the body of your comment. Also include this contact information on the outside of any disk or CD ROM you submit, and in any cover letter accompanying the disk or CD ROM. This ensures that you can be identified as the submitter of the comment and allows EPA to contact you in case EPA cannot read your comment due to technical difficulties or needs further information on the substance of your comment. EPA's policy is that EPA will not edit your comment, and any identifying or contact information provided in the body of a comment will be included as part of the comment that is placed in the official public docket. If EPA cannot read your comment due to technical difficulties and cannot contact you for clarification, EPA may not be able to consider your comment.

i. E-mail. Comments may be sent by electronic mail (e-mail) to Werner.Raymond@epa.gov, please include the text “Public comment on proposed rulemaking Region 2 Docket Number NJ 63-263” in the subject line. EPA's e-mail system is not an “anonymous access” system. If you send an e-mail comment directly without going through Regulations.gov, EPA's e-mail system automatically captures your e-mail address. E-mail addresses that are automatically captured by EPA's e-mail system are included as part of the comment that is placed in the official public docket.

ii. Regulations.gov. Your use of Regulations.gov is an alternative method of submitting electronic comments to EPA. Go directly to Regulations.gov at http://www.regulations.gov, then click on the button “TO SEARCH FOR REGULATIONS CLICK HERE”, and select Environmental Protection Agency as the Agency name to search on. The list of current EPA actions available for comment will be listed. Please follow the online instructions for submitting comments. The system is an “anonymous access” system, which means EPA will not know your identity, e-mail address, or other contact information unless you provide it in the body of your comment.

iii. Disk or CD ROM. You may submit comments on a disk or CD ROM that you mail to the mailing address identified in section 2, directly below. These electronic submissions will be accepted in WordPerfect, Word or ASCII file format. Avoid the use of special characters and any form of encryption.

2. By Mail. Send your comments to: Raymond Werner, Chief, Air Programs Branch, Environmental Protection Agency, Region II Office, 290 Broadway, New York, New York 10007-1866. Please include the text “Public comment on proposed rulemaking Region 2 Docket Number NJ 63-263” in the subject line on the first page of your comment.

3. By Hand Delivery or Courier. Deliver your comments to: Raymond Werner, Chief, Air Programs Branch, Environmental Protection Agency, Region II Office, 290 Broadway, New York, New York 10007-1866. Such deliveries are only accepted during the Regional Office's normal hours of operation. The Regional Office's official hours of business are Monday through Friday, 8:30 to 4:30 excluding Federal Holidays.

C. How Should I Submit CBI to the Agency?

Do not submit information that you consider to be CBI electronically to EPA. You may claim information that you submit to EPA as CBI by marking any part or all of that information as CBI (if you submit CBI on disk or CD ROM, mark the outside of the disk or CD ROM as CBI and then identify electronically within the disk or CD ROM the specific information that is CBI). Information so marked will not be disclosed except in accordance with procedures set forth in 40 CFR part 2.

In addition to one complete version of the comment that includes any information claimed as CBI, a copy of the comment that does not contain the information claimed as CBI must be submitted for inclusion in the official public regional rulemaking file. If you submit the copy that does not contain CBI on disk or CD ROM, mark the outside of the disk or CD ROM clearly that it does not contain CBI. Information not marked as CBI will be included in the public file and available for public inspection without prior notice. If you have any questions about CBI or the procedures for claiming CBI, please consult the person identified in the FOR FURTHER INFORMATION CONTACT section.

IV. What Is EPA's Conclusion?

EPA has concluded that the New Jersey program contains the necessary applicability, compliance and reporting provisions necessary to meet the requirements for an Emission Statement Program. EPA is proposing to approve Subchapter 21, Emission Statements, as part of the SIP.

V. Statutory and Executive Order Reviews

Under Executive Order 12866 (58 FR 51735, October 4, 1993), this proposed action is not a “significant regulatory action” and therefore is not subject to review by the Office of Management and Budget. For this reason, this action is also not subject to Executive Order 13211, “Actions Concerning Regulations That Significantly Affect Energy Supply, Distribution, or Use” (66 FR 28355, May 22, 2001). This proposed action merely proposes to approve state law as meeting Federal requirements and imposes no additional requirements beyond those imposed by state law. Accordingly, the Administrator certifies that this proposed rule will not have a significant economic impact on a substantial number of small entities under the Regulatory Flexibility Act (5 U.S.C. 601 et seq.). Because this rule proposes to approve pre-existing requirements under state law and does not impose any additional enforceable duty beyond that required by state law, it does not contain any unfunded mandate or significantly or uniquely affect small governments, as described in the Unfunded Mandates Reform Act of 1995 (Pub. L. 104-4).

This proposed rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have federalism implications because it does not have substantial direct effects on the states, on the relationship between the national government and the states, or on the distribution of power and responsibilities among the various levels of government, as specified in Executive Order 13132 (64 FR 43255, August 10, 1999). This action merely proposes to approve a state rule implementing a Federal standard, and does not alter the relationship or the distribution of power and responsibilities established in the Clean Air Act. This proposed rule also is not subject to Executive Order 13045 “Protection of Children from Environmental Health Risks and Safety Risks” (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This proposed rule does not impose an information collection burden under the provisions of the Paperwork Reduction Act of 1995 (44 U.S.C. 3501 et seq.).

List of Subjects in 40 CFR Part 52

Air pollution control, Carbon monoxide, Lead, Nitrogen dioxide, Ozone, Particulate matter, Reporting and recordkeeping requirements, Sulfur oxides, Volatile organic compounds.

Authority: 42 U.S.C. 7401 et seq.

Dated: November 28, 2003.
Kathleen C. Callahan,
Acting Regional Administrator, Region 2.

[FR Doc. 03-30514 Filed 12-8-03; 8:45 am]

BILLING CODE 6560-50-P